ENVIRONMENTAL PROTECTION AGENCY

[EPA-HQ-OPP-2009-0909; FRL-8873-4]

Pesticide Reregistration Performance Measures and Goals; Correction

AGENCY: Environmental Protection Agency (EPA).

ACTION: Notice; correction.

SUMMARY: EPA issued a notice in the Federal Register of March 2, 2011, concerning the Agency's progress in meeting its performance measures and goals for pesticide reregistration during fiscal years 2009 and 2010. This document is being issued to correct two typographical errors.

FOR FURTHER INFORMATION CONTACT: Carol P. Stangel, Pesticide Re-evaluation Division (7508P), Office of Pesticide Programs, Environmental Protection Agency, 1200 Pennsylvania Ave., NW., Washington, DC 20460-0001; telephone number: (703) 308-8007; e-mail address: stangel.carol@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2009-0909. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this correction do?

The preamble in FR Doc. 2011-4649, published in the Federal Register of March 2, 2011 (76 FR 11456) (FRL-8859-4), is corrected as follows:

1. On page 11458, Table 1, second column, first entry, correct “697” to read “679.”

2. On page 11459, Table 1, second column, second entry, correct “1,214” to read “1,196.”

List of Subjects

Environmental protection, Pesticides and pests.

Dated: May 5, 2011.
William L. Jordan,
Acting Director, Office of Pesticide Programs.

[FR Doc. 2011-12231 Filed 5-17-11; 8:45 am]

BILLING CODE 6560-50-P